Title 3—

The President

Presidential Determination No. 2007-15 of March 19, 2007

Presidential Determination on the Eligibility of the Republic of Montenegro and the Republic of Serbia To Receive

Defense Articles and Defense Services

Memorandum for the Secretary of State

Pursuant to the authority vested in me by the Constitution and the laws of the United States, including section 503(a) of the Foreign Assistance Act of 1961, as amended, and section 3(a)(1) of the Arms Export Control Act, as amended, I hereby find that the furnishing of defense articles and defense services to the Republic of Montenegro and the Republic of Serbia will strengthen the security of the United States and promote world peace.

You are authorized and directed to transmit this determination to the Congress and to arrange for the publication of this determination in the Federal Register.

[FR Doc. 07-1608

Filed 3-29-07; 8:45 am]

Billing code 4710-10-P